DEPARTMENT OF COMMERCE

Economic Development Administration

Proposed Information Collection; Comment Request; Property Management

AGENCY: Economic Development Administration, Department of Commerce.

ACTION: Notice.

SUMMARY: The Economic Development Administration (EDA or the Agency), Department of Commerce, as part of its continuing effort to reduce paperwork and respondent burden, invites the general public and other Federal agencies to comment on a proposed extension of an information collection request approved through September 30, 2018, as required by the Paperwork Reduction Act of 1995 (PRA).

DATES: Written comments must be submitted on or before July 3, 2018.

ADDRESSES: Direct all written comments to Jennifer Jessup, Departmental Paperwork Clearance Officer, Department of Commerce, Room 6616, 14th and Constitution Avenue NW, Washington, DC 20230 (or via email at PRAcomments@doc.gov).

FOR FURTHER INFORMATION CONTACT: Requests for additional information or copies of the information collection instrument and instructions should be directed to Bernadette Grafton, Program Analyst, U.S. Department of Commerce, Economic Development Administration Performance and National Programs Division, 1401 Constitution Avenue NW, Suite 71030, Washington, DC 20230 (or via email at: bgrafton@eda.gov).

SUPPLEMENTARY INFORMATION:

I. Abstract

The mission of EDA is to lead the federal economic development agenda by promoting innovation and competitiveness, preparing American regions for growth and success in the worldwide economy. EDA accomplishes this mission by helping states, regions, and communities through capacity building, planning, infrastructure, research grants, and strategic initiatives. Further information on EDA's program and grant opportunities can be found at www.eda.gov.

In order to effectively administer and monitor its economic development assistance programs, EDA collects certain information from applications for, and recipients of, EDA investment assistance. This notice covers EDA's Property Management requirements. A recipient must request in writing EDA's approval to undertake an incidental use of property acquired or improved with EDA's investment assistance (see 13 CFR 314.3 of EDA's regulations). The purpose of this notice is to seek comments from the public and other Federal agencies on a request for an extension of this collection of information that allows EDA to determine whether an incidental use of property acquired or improved with EDA investment assistance is appropriate. If a recipient wishes EDA to release its real property or tangible personal property interests before the expiration of the property's estimated useful life, the recipient must submit a written request to EDA and disclose to EDA the intended future use of the real property or the tangible personal property for which the release is requested (see 13 CFR 314.10 of EDA's regulations). This collection of information allows EDA to determine whether to release its real property or tangible personal property interests. This information collection is scheduled to expire on September 30, 2018.

II. Method of Collection

Property management requests are collected via both paper and electronic submissions. A recipient must request in writing EDA's approval to undertake an incidental use of property acquired or improved with EDA's investment assistance (see 13 CFR 314.3 of EDA's regulations). This collection of information allows EDA to determine whether an incidental use of property acquired or improved with EDA investment assistance is appropriate. This collection of information allows EDA to determine whether to release its real property or tangible personal property interests. EDA is not proposing any changes to the current information collection request.

III. Data

OMB Control Number: 0610-0103.

Form Number(s): None.

Type of Review: Ad hoc submission (only when a recipient makes a request).

Affected Public: Current recipients of EDA construction (Public Works or Economic Adjustment Assistance) awards, to include (1) cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Estimated Number of Respondents: 150 (54 incidental use requests; 96 for requests to release EDA's Property interest).

Estimated Time per Response: 2 hours and 45 minutes.

Estimated Total Annual Burden Hours: 413.

Type of request | Number of requests (estimated) | Hours per request (estimated) | Total estimated burden hours
Incidental use request | 54 | 2.75 | 148.5
Release request | 96 | 2.75 | 264
Total |  |  | 412.5

Estimated Total Annual Cost to Public: $0.

IV. Request for Comments

Pursuant to section 3506(c)(2)(A) of the PRA (44 U.S.C. 3501 et seq.), comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and may be included in the request for Office of Management and Budget approval of this information collection; they also will become a matter of public record.

Sheleen Dumas,
Departmental Lead PRA Officer, Office of the Chief Information Officer.

[FR Doc. 2018-09540 Filed 5-3-18; 8:45 am]

BILLING CODE 3510-34-P